DEPARTMENT OF COMMERCE

National Oceanic and Atmospheric Administration

[I.D. 070300C]

Endangered Species; Permits

AGENCY: National Marine Fisheries Service (NMFS), National Oceanic and Atmospheric Administration (NOAA), Commerce.

ACTION: Receipt of applications to modify permits (1245, 1189); issuance of permits (1247), (1249); and modifications/amendments to existing permits (1177).

SUMMARY: Notice is hereby given of the following actions regarding permits for takes of endangered and threatened species for the purposes of scientific research and/or enhancement:

NMFS has received a request to modify permit (1245) from Mr. J. David Whitaker, of the South Carolina Department of Natural Resources (SCDNR), NMFS has received a request to modify permit (1189) from Dr. James Kirk, of the US Army Corps of Engineers (Corps); NMFS has issued permit 1247 to Mr. Tom Savoy, of CT Dept of Environmental Protection (CTDEP) and NMFS has issued permit 1249 to Mr. E.P. Taft, of Alden Research Laboratory (ALR); and NMFS has issued an amendment to a scientific research/enhancement permit to the U.S. Army Corps of Engineers, Portland District in Portland, OR (Corps)(1177).

DATES: Comments or requests for a public hearing on any of the new applications or modification requests must be received at the appropriate address or fax number no later than 5:00 pm eastern standard time on August 11, 2000.

ADDRESSES: Written comments on any of the new applications or modification requests should be sent to the appropriate office as indicated below. Comments may also be sent via fax to the number indicated for the application or modification request. Comments will not be accepted if submitted via e-mail or the internet. The applications and related documents are available for review in the indicated office, by appointment:

For permit 1177: Protected Resources Division, F/NWO3, 525 NE Oregon Street, Suite 500, Portland, OR 97232-2737 (ph: 503-230-5400, fax: 503-230-5435).

For permits 1247, 1245, 1189, 1249: Office of Protected Resources, Endangered Species Division, F/PR3, 1315 East-West Highway, Silver Spring, MD 20910 (ph: 301-713-1401, fax: 301-713-0376).

Documents may also be reviewed by appointment in the Office of Protected Resources, F/PR3, NMFS, 1315 East-West Highway, Silver Spring, MD 20910-3226 (301-713-1401).

FOR FURTHER INFORMATION CONTACT: For permits 1247, 1245, 1189, 1249: Terri Jordan, Silver Spring, MD (ph: 301-713-1401, fax: 301-713-0376, e-mail: Terri.Jordan@noaa.gov).

For permit 1177: Leslie Schaeffer, Portland, OR (ph: 503-230-5433, fax: 503-230-5435, e-mail: Leslie.Schaeffer@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species and evolutionarily significant units (ESU's) are covered in this notice:

Sea Turtles

Green turtle (Chelonia mydas), Hawksbill turtle (Eretmochelys imbricata), Kemp's ridley turtle (Lepidochelys kempii), Leatherback turtle (Dermochelys coriacea), Loggerhead turtle (Caretta caretta).

Fish

Coho salmon (Oncorhynchus kisutch): Threatened Southern Oregon/Northern California Coasts (SONCC).

Shortnose sturgeon (Acipenser brevirostrum).

Modification Requests Received

Permit 1245

SCDNR requests a modification to Permit 1245. Permit 1245 authorizes the annual take of up tp 200 threatened loggerhead turtle, 23 endangered Kemp's ridley, one green and one leatherback sea turtle in the Atlantic Ocean off the southeastern United States. This study is intended to capture juveniles and adults, thereby providing a more comprehensive assessment of total population abundance and an assessment of the health of individual animals. Modification #1 would increase the authorized annual take of green turtles from one to ten annually and add five hawksbill turtles.

Permit 1189

The applicant requests a modification to Permit 1189. Permit 1189 authorizes the capture handling and release of up to 300 juvenile and adult shortnose sturgeon annually in the Ogeechee River, Georgia. The permit also authorizes sonic tagging of up to 20 adult shortnose sturgeon in the Ogeechee River. Modification #2 would authorize the use of external floy tags for up to 50 shortnose sturgeon annually. Permit 1189 expires December 31, 2002.

Permits and Modifications Issued

Permits Issued

Notice was published on March 3, 2000 (65 FR 16894) that Mr. Tom Savoy, of CT Dept of Environmental Protection applied for a scientific research permit (1247). The applicant requested a five year permit to lethally take up to 300 spawned eggs and larvae annually; capture, examine, collect stomach contents samples via gastrical lavage, PIT tag and release up to 400 adult and 100 juvenile sturgeon; and sonically tag up to 25 adult sturgeon annually. The research proposes to determine general seasonal movements and fine scale diurnal movement patterns as well as food habits and prey preferences of shortnose sturgeon in the Connecticut River below Holyoke Dam. Permit 1247 was issued on June 30,2000, authorizing take of listed species. Permit 1247 expires June 30, 2005.

Permit 1249

Notice was published on April 19, 2000 (65 FR 20954) that Mr. E.P. Taft, of Alden Research Laboratory applied for a scientific research permit (1249). The applicant proposes to take a maximum of 200 1+ yr captively bred shortnose sturgeon from the Conte Anadromous Fish Research Center to conduct applied fish passage facility research and development with the intent of identifying what fish passage design and operating conditions are necessary to maximize biological effectiveness of shortnose sturgeon diversion around dams in the Connecticut and Santee-Cooper River systems. Permit 1249 was issued on July 6, 2000, authorizing take of listed species. Permit 1249 expires June 30, 2001.

Permit Amendment Issued

On June 30, 2000, NMFS issued an amendment to the Corps' scientific research/enhancement permit 1177. The amendment provides an extension of the duration of the permit through June 30, 2001. The permit was due to expire on June 30, 2000. The permit authorizes take of adult and juvenile, threatened, SONCC coho salmon associated with scientific research and an adult fish trap-and-haul program at Elk Creek Dam on the Rogue River in OR. The purpose of the trap-and-haul program is to move returning ESA-listed adult fish above Elk Creek Dam, an impassable barrier for adult salmonids, so that the fish may use the habitat upstream of the dam for natural spawning. To determine the annual spawning success of the fish upstream of the dam, ESA-listed juvenile fish will be observed by snorkeling. In addition, ESA-listed adult fish carcasses will be examined for evidence of spawning and immediately returned to the stream. Permit 1177 expires on June 30, 2001.

Dated: July 6, 2000.
Wanda L. Cain,
Chief, Endangered Species Division, Office of Protected Resources, National Marine Fisheries Service.

[FR Doc. 00-17628 Filed 7-11-00; 8:45 am]

BILLING CODE 3510-22-F